NUCLEAR REGULATORY COMMISSION

Working Group on Termination of Uranium Mill Licenses in Agreement States

AGENCY: U.S. Nuclear Regulatory Commission.

ACTION: Notice of formation of working group and public meeting.

SUMMARY: The U.S. Nuclear Regulatory Commission (NRC) is announcing the formation of a working group on Termination of Uranium Mill Licenses in Agreement States. The working group will provide recommendations to the NRC on the NRC concurrence process for uranium license termination in Agreement States. The working group is composed of representatives from the NRC and Agreement States.

DATES: The first meeting will be held on April 24, 2001, from 2 p.m. to 4 p.m. at the NRC Headquarters,11555 Rockville Pike, Room O-3-B4, Rockville, Maryland 20852. Agreement State representatives will participate in the meeting by phone. These meetings will be open to the public. Future meetings will be announced on the NRC public meeting web site, http://www.nrc.gov/NRC/PUBLIC/meet.html.

FOR FURTHER INFORMATION CONTACT: Kevin Hsueh, Health Physicist, Office of State and Tribal Programs, U.S. Nuclear Regulatory Commission, Washington, DC 20555-0001. Telephone: 301-415-2598, e-mail: kph@nrc.gov.

SUPPLEMENTARY INFORMATION: The Office of State and Tribal Programs (STP) Procedure SA-900, “Termination of Uranium Mill Licenses in Agreement Sates,” has been used as guidance by NRC staff for review of uranium license termination proposals as well as by Agreement State staff on preparation of such proposals. The NRC has made its concurrence determinations on one conventional and seven in-situ uranium mill license termination proposals submitted by Agreement States since the STP SA-900 procedure was issued in April 1999.

During NRC review of the license termination proposals, especially Washington State's proposal for termination of the Western Nuclear (Sherwood) mill license, NRC staff recognized that in some areas the guidance may need to be expanded to better characterize the level of detail in information which should be provided by an Agreement State in support of a license termination proposal. In addition, the NRC also received a comment letter from the National Mining Association recommending clarifying changes to the guidance provided in the STP SA-900 procedure.

The working group will identify areas that need improvements in the NRC concurrence process based on the review experience to date, and propose a draft revised SA-900 procedure that addresses issues identified by the working group and stakeholders. The working group is scheduled to complete the project by October 2001.

Dated at Rockville, Maryland this 23rd day of March, 2001.
For the Nuclear Regulatory Commission.
Janet R. Schlueter,
Acting Director, Office of State and Tribal Programs.

[FR Doc. 01-7789 Filed 3-28-01; 8:45 am]

BILLING CODE 7590-01-p